DEPARTMENT OF ENERGY

Federal Energy Regulatory Commission

Combined Notice of Filings #1

Take notice that the Commission received the following electric rate filings:

Docket Numbers: ER10-2394-008; ER10-2395-008.

Applicants: Colorado Power Partners, BIV Generation Company, L.L.C.

Description: Updated Market Power Analysis for Northwest Region of BIV Generation Company, L.L.C., et al.

Filed Date: 12/28/22.

Accession Number: 20221228-5221.

Comment Date: 5 p.m. ET 1/18/23.

Docket Numbers: ER11-2753-009; ER12-1316-008.

Applicants: Silver State Solar Power North, LLC, Cedar Point Wind, LLC.

Description: Triennial Market Power Analysis for Northwest Region of Cedar Point Wind, LLC, et al.

Filed Date: 12/29/22.

Accession Number: 20221229-5255.

Comment Date: 5 p.m. ET 2/27/23.

Docket Numbers: ER17-1217-002.

Applicants: Total Gas & Power North America, Inc.

Description: Triennial Market Power Analysis for Northwest Region of TotalEnergies Gas & Power North America, Inc.

Filed Date: 12/29/22.

Accession Number: 20221229-5258.

Comment Date: 5 p.m. ET 2/27/23.

Docket Numbers: ER20-2197-003.

Applicants: Atlantic City Electric Company, PJM Interconnection, L.L.C.

Description: Compliance filing: Atlantic City Electric Company submits tariff filing per 35: ACE and Delmarva Supplemental Compliance Filing ER20-2197 & ER20-2198 to be effective 9/1/2020.

Filed Date: 12/29/22.

Accession Number: 20221229-5100.

Comment Date: 5 p.m. ET 1/19/23.

Docket Numbers: ER22-1395-000.

Applicants: Public Service Company of New Mexico.

Description: Refund Report: Refund Report to be effective N/A.

Filed Date: 12/29/22.

Accession Number: 20221229-5227.

Comment Date: 5 p.m. ET 1/19/23.

Docket Numbers: ER23-101-001.

Applicants: North East Offshore, LLC.

Description: Market: Market Base Rate Triennial Review to be effective 12/30/2022.

Filed Date: 12/29/22.

Accession Number: 20221229-5208.

Comment Date: 5 p.m. ET 2/27/23.

Docket Numbers: ER23-102-001.

Applicants: Revolution Wind, LLC.

Description: Market: Market Base Rate Triennial Review to be effective 12/30/2022.

Filed Date: 12/29/22.

Accession Number: 20221229-5212.

Comment Date: 5 p.m. ET 2/27/23.

Docket Numbers: ER23-103-001.

Applicants South Fork Wind, LLC.

Description: Market: Market Base Rate Triennial Review to be effective 12/30/2022.

Filed Date: 12/29/22.

Accession Number: 20221229-5211.

Comment Date: 5 p.m. ET 2/27/23.

Docket Numbers: ER23-104-001.

Applicants Sunrise Wind LLC.

Description: Market: Market Base Rate Triennial Review to be effective 12/30/2022.

Filed Date: 12/29/22.

Accession Number: 20221229-5217.

Comment Date: 5 p.m. ET 2/27/23.

Docket Numbers: ER23-337-001.

Applicants Southwest Power Pool, Inc.

Description: Tariff Amendment: 3599R1 Missouri Electric Commission NITSA NOA to be effective 1/1/2023.

Filed Date: 12/29/22.

Accession Number: 20221229-5098.

Comment Date: 5 p.m. ET 1/19/23.

Docket Numbers: ER23-739-000.

Applicants ISO New England Inc., Eversource Energy Service Company (as agent), New England Power Pool Participants Committee, The United Illuminating Company.

Description: § 205(d) Rate Filing: ISO New England Inc. submits tariff filing per 35.13(a)(2)(iii: Revisions to Enable Treatment of Storage as Transmission-Only Asset—Part 1 of 2 to be effective 12/31/9998.

Filed Date: 12/29/22.

Accession Number: 20221229-5051.

Comment Date: 5 p.m. ET 1/19/23.

Docket Numbers: ER23-740-000.

Applicants Evergy Kansas Central, Inc.

Description: § 205(d) Rate Filing: Amendment, Market-Based Rate Tariff to be effective 2/13/2023.

Filed Date: 12/29/22.

Accession Number: 20221229-5061.

Comment Date: 5 p.m. ET 1/19/23.

Docket Numbers: ER23-741-000.

Applicants Evergy Metro, Inc.

Description: § 205(d) Rate Filing: Amendment, Market-Based Rate Tariff to be effective 2/27/2023.

Filed Date: 12/29/22.

Accession Number: 20221229-5064.

Comment Date: 5 p.m. ET 1/19/23.

Docket Numbers: ER23-742-000.

Applicants: Evergy Missouri West, Inc.

Description:: § 205(d) Rate Filing: Amendment, Market-Based Rate Tariff to be effective 2/27/2023.

Filed Date: 12/29/22.

Accession Number: 20221229-5067.

Comment Date: 5 p.m. ET 1/19/23.

Docket Numbers: ER23-743-000.

Applicants: ISO New England Inc., Eversource Energy Service Company (as agent),The United Illuminating Company, New England Power Pool Participants Committee.

Description:: § 205(d) Rate Filing: ISO New England Inc. submits tariff filing per 35.13(a)(2)(iii: Revisions to Enable Treatment of Storage as Transmission-Only Assets—Part 2 of 2 to be effective 12/31/9998.

Filed Date: 12/29/22.

Accession Number: 20221229-5086.

Comment Date: 5 p.m. ET 1/19/23.

Docket Numbers: ER23-744-000.

Applicants: Occidental Power Marketing, L.P.

Description: Market: Occidental Power Marketing, L.P. Updated Market Power Analysis to be effective 12/30/2022.

Filed Date:12/29/22.

Accession Number: 20221229-5137.

Comment Date: 5 p.m. ET 2/27/23.

Docket Numbers: ER23-745-000.

Applicants: Occidental Power Services, Inc.

Description: Market: Occidental Power Services, Inc. Updated Market Power Analysis to be effective 12/30/2022.

Filed Date: 12/29/22.

Accession Number: 20221229-5138.

Comment Date: 5 p.m. ET 2/27/23.

Docket Numbers: ER23-746-000.

Applicants: OTCF, LLC.

Description: Market: OTCF, LLC Updated Market Power Analysis to be effective 12/30/2022.

Filed Date: 12/29/22.

Accession Number: 20221229-5139.

Comment Date: 5 p.m. ET 2/27/23.

Docket Numbers: ER23-747-000.

Applicants: PJM Interconnection, L.L.C.

Description: § 205(d) Rate Filing: First Revised ISA, Service Agreement No. 1435; Queue AC1-008_AC2-071_AG1-001 to be effective 11/29/2022.

Filed Date: 12/29/22.

Accession Number: 20221229-5144.

Comment Date: 5 p.m. ET 1/19/23.

Docket Numbers: ER23-748-000.

Applicants: Power 2 Profit Energy Solutions, Inc.

Description: Baseline eTariff Filing: Market-Based Rate Tariff Application to be effective 1/1/2023.

Filed Date: 12/29/22.

Accession Number: 20221229-5184.

Comment Date: 5 p.m. ET 1/19/23

Docket Numbers: ER23-749-000.

Applicants: PJM Interconnection, L.L.C.

Description: § 205(d) Rate Filing: Original NSA, Service Agreement No. 6722; Queue No. AE1-155 to be effective 11/30/2022.

Filed Date: 12/29/22.

Accession Number: 20221229-5271.

Comment Date: 5 p.m. ET 1/19/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2022.
Debbie-Anne A. Reese,
Deputy Secretary.

[FR Doc. 2023-00097 Filed 1-6-23; 8:45 am]

BILLING CODE 6717-01-P